DEPARTMENT OF COMMERCE

National Oceanic and Atmospheric Administration

50 CFR Part 679

[Docket No. 000706201-0201-0401; I.D. 060700A]

RIN 0648-AO00

Fisheries of the Exclusive Economic Zone Off Alaska; Removal of Vessel Moratorium in the GOA and BSAI; Correction

AGENCY: National Marine Fisheries Service (NMFS), National Oceanic and Atmospheric Administration (NOAA), Commerce.

ACTION: Final rule; technical amendment; correction.

SUMMARY: This document contains a correction to the final rule removing obsolete text implementing the Vessel Moratorium Program (VMP) that was published in the Federal Register on July 21, 2000.

DATES: Effective July 21, 2000.

FOR FURTHER INFORMATION CONTACT: Patsy A. Bearden, 907-586-7008.

SUPPLEMENTARY INFORMATION: A final rule was published in the Federal Register on July 21, 2000 (65 FR 45316), to remove obsolete VMP text, and to clarify, and simplify existing text. In § 679.2, under the definition of “Directed fishing” in paragraph (3), the phrase “Applicable through July 20, 2000” was in error and is corrected to read “Applicable through January 16, 2001”.

Correction

In the final rule, technical amendment published in 65 FR 45316, July 21, 2000, FR Doc. 00-18564, make the following corrections:

PART 679—[CORRECTED]

§ 679.2 [Corrected]

On page 45317, in the second column, in § 679.2 under the definition of “Directed fishing”, correct the first line of paragraph (3) by removing “(Applicable through June 20, 2000)” and adding in its place “(Applicable through January 16, 2001)”.

Dated: August 24, 2000.
William T. Hogarth,
Deputy Assistant Administrator for Fisheries, National Marine Fisheries Service.

[FR Doc. 00-22200 Filed 8-29-00; 8:45 am]

Billing Code: 3510-22-S